DEPARTMENT OF TRANSPORTATION

Federal Aviation Administration

14 CFR Part 39

[Docket No. FAA-2005-20289; Directorate Identifier 2003-SW-55-AD]

RIN 2120-AA64

Airworthiness Directives; Eurocopter France Model EC120 Helicopters

AGENCY: Federal Aviation Administration, DOT.

ACTION: Notice of proposed rulemaking (NPRM).

SUMMARY: This document proposes adopting a new airworthiness directive (AD) for Eurocopter France (Eurocopter) Model EC120 helicopters. This proposal would require inspecting the tail rotor drive shaft (drive shaft) damper half-clamps (half-clamps) to determine if they are centered on the friction ring, and if not correctly positioned, centering the half-clamps on the friction ring. This proposal is prompted by the discovery of half-clamps that were incorrectly positioned. This condition, if not detected, could result in interference of the two half-clamps with the drive shaft, which could result in scoring on the drive shaft, failure of the drive shaft, and subsequent loss of control of the helicopter.

DATES: Comments must be received on or before April 11, 2005.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from American Eurocopter Corporation, 2701 Forum Drive, Grand Prairie, Texas 75053-4005, telephone (972) 641-3460, fax (972) 641-3527.

You may examine the comments to this proposed AD in the AD docket on the Internet at http://dms.dot.gov.

FOR FURTHER INFORMATION CONTACT: Eric Haight, Aviation Safety Engineer, FAA, Rotorcraft Directorate, Regulations and Policy Group, Fort Worth, Texas 76193-0111, telephone (817) 222-5204, fax (817) 222-5961.

SUPPLEMENTARY INFORMATION:

Comments Invited

We invite you to submit any written data, views, or arguments regarding this proposed AD. Send your comments to the address listed under the caption ADDRESSES. Include the docket number “FAA-2005-20289, Directorate Identifier 2003-SW-55-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78) or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NASSIF Building in Room PL-401 at 400 Seventh Street, SW., Washington, DC. Comments will be available in the AD docket shortly after the DMS receives them.

Discussion

The Direction Generale De L'Aviation Civile (DGAC), the airworthiness authority for France, notified the FAA that an unsafe condition may exist on Eurocopter Model EC120B helicopters. The DGAC advises of the discovery of a case of incorrect drive shaft damper positioning, which led to interference of the two half-clamps with the drive shaft tube and caused a score on the drive shaft.

Eurocopter has issued Alert Telex No. 65A004, Revision 1, dated January 27, 2004, which specifies re-positioning of the drive shaft damper, if necessary. The DGAC classified this alert telex as mandatory and issued AD No. UF-2003-465, dated December 22, 2003, and AD No. F-2003-465(A), dated January 21, 2004, to ensure the continued airworthiness of these helicopters in France.

This helicopter model is manufactured in France and is type certificated for operation in the United States under the provisions of 14 CFR 21.29 and the applicable bilateral agreement. Pursuant to the applicable bilateral agreement, the DGAC has kept us informed of the situation described above. We have examined the findings of the DGAC, reviewed all available information, and determined that AD action is necessary for products of this type design that are certificated for operation in the United States.

This previously described unsafe condition is likely to exist or develop on other helicopters of the same type design registered in the United States. Therefore, the proposed AD would require, for Eurocopter Model EC120B helicopters, serial number 1362 and below, a one-time inspection of the half-clamps to determine if they are centered on the friction ring, and if they are not, centering the half-clamps on the friction ring. The actions would have to be accomplished within 50 hours time-in-service (TIS) for helicopters with 500 or more hours TIS; or no later than 550 hours TIS for helicopters with less than 500 hours TIS, in accordance with the alert telex described previously.

We estimate that this proposed AD would affect 78 helicopters of U.S. registry. The one-time inspection would take approximately 2 work hours to accomplish, and the modification would take 6 work hours, at an average labor rate of $65 per work hour. Required modification parts would cost approximately $180 per helicopter. Based on these figures, we estimate the total cost impact of the proposed AD on U.S. operators would be $14,700, assuming 8 helicopters would need modification.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. FAA-2005-20289; Directorate Identifier 2003-SW-55-AD.

Applicability: Model EC120B helicopters, serial number 1362 and below, certificated in any category.

Compliance: Required within 50 hours time-in-service (TIS) for helicopters with 500 or more hours TIS; or no later than 550 hours TIS for helicopters with less than 500 hours TIS, unless accomplished previously.

To detect incorrect positioning of the tail rotor drive shaft (drive shaft) damper half-clamps (half-clamps), and to prevent interference of the half-clamps with the drive shaft, which could result in scoring on the drive shaft, failure of the drive shaft, and subsequent loss of control of the helicopter, accomplish the following:

(a) Inspect the half-clamps, part number C651A4103201 or C651A4103202, to determine if they are centered on the friction ring, using the Operational Procedure, paragraph 2.B., of Eurocopter Alert Telex No. 65A004, Revision 1, dated January 27, 2004 (Alert Telex). If the half-clamps are not centered on the friction ring, center the half-clamps on the friction ring in accordance with the Operational Procedure, paragraph 2.B, and Rework Sheet No. EC 120-53-02-04 in Appendix 1 of the Alert Telex.

(b) To request a different method of compliance or a different compliance time for this AD, follow the procedures in 14 CFR 39.19. Contact the Safety Management Group, Rotorcraft Directorate, FAA, for information about previously approved alternative methods of compliance.

(c) Special flight permits will not be issued.

Note: The subject of this AD is addressed in Direction Generale De L'Aviation Civile (France) AD No. UF-2003-465, dated December 22, 2003, and AD No. F-2003-465, Revision A, dated January 21, 2004.

Issued in Fort Worth, Texas, on February 1, 2005.
David A. Downey,
Manager, Rotorcraft Directorate, Aircraft Certification Service.

[FR Doc. 05-2586 Filed 2-9-05; 8:45 am]

BILLING CODE 4910-13-P